ENVIRONMENTAL PROTECTION AGENCY

[FRL-8563-8]

EPA Science Advisory Board; Notification of a Public Teleconference Meeting of the Chartered Science Advisory Board

AGENCY: Environmental Protection Agency.

ACTION: Notice.

SUMMARY: The Environmental Protection Agency (EPA) Science Advisory Board (SAB) Staff Office announces a public teleconference meeting of the Chartered EPA Science Advisory Board to review a draft report from the SAB's Radiation Advisory Committee Augmented for the review of the draft Multi-Agency Radiation Survey and Assessment of Materials and Equipment (MARSAME) Manual.

DATES: The SAB will hold the public teleconference on May 29, 2008. The teleconference will be held from 1:30 p.m. to 3 p.m. (Eastern Time).

ADDRESSES: The meeting will be conducted by telephone conference only.

FOR FURTHER INFORMATION CONTACT: Any member of the public wishing to obtain general information concerning this public teleconference or meeting should contact Mr. Thomas O. Miller, Designated Federal Officer (DFO), EPA Science Advisory Board (1400F), U.S. Environmental Protection Agency, 1200 Pennsylvania Avenue, NW., Washington, DC 20460; via telephone/voice mail: (202) 343-9982; fax: (202) 233-0643; or e-mail at: miller.tom@epa.gov. General information concerning the EPA Science Advisory Board can be found on the SAB Web Site at: http://www.epa.gov./sab.

SUPPLEMENTARY INFORMATION: The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies. Pursuant to the Federal Advisory Committee Act, Public Law 92-463, notice is hereby given that the EPA SAB will hold a public teleconference meeting to conduct a quality review the SAB Panel's draft Report on EPA's Draft Entitled “Multi-Agency Radiation Survey and Assessment of Materials and Equipment (MARSAME) Manual,” of December 2006.

Background: The EPA SAB Radiation Advisory Committee (RAC), augmented with additional experts, reviewed the “Multi-Agency Radiation Survey and Assessment of Materials and Equipment (MARSAME) Manual,” Draft Report for Comment, December 2006. A multi-agency work group with participation by staff from the U.S. Department of Energy, U.S. Nuclear Regulatory Commission, U.S. Department of Defense and U.S. EPA prepared the manual. The multi-agency work group has been active since 1995 and prepares radiological guidance documents. The draft MARSAME manual complements MARSSIM (a surficial soils radiation survey manual) by providing a process for surveying potentially radioactive material and equipment (M&E). It provides guidance to determine whether M&E are sufficiently free of radionuclide contamination to be admitted to or removed from a site. Additional information on this review can be obtained on the EPA SAB Web Site at: http://yosemite.epa.gov/sab/sabpeople.nsf/WebCommitteesSubcommittees/Radiation%20Advisory%20Committee and in the Federal Register at 72 FR 11356-11358 on the Web at: http://www.epa.gov/fedrgstr/EPA-SAB/2007/March/Day-13/sab4562.htm.

The purpose of this upcoming teleconference is for the Chartered SAB to conduct a quality review of the draft Panel report.

Availability of Materials: The draft agenda and other materials will be posted on the SAB Web Site at http://www.epa.gov/sab prior to the meeting. For questions and information concerning the Agency's draft document on this topic please contact Dr. Mary E. Clark of the U.S. EPA, ORIA by telephone at (202) 343-9348, fax at (202) 243-2395, or e-mail at: clark.marye@epa.gov.

Procedures for Providing Public Input: Interested members of the public may submit relevant written or oral information for the Chartered SAB's consideration during this quality review meeting. Oral Statements: In general, individuals or groups requesting an oral presentation at a public SAB teleconference will be limited to three minutes per speaker, with no more than a total of one-half hour for all speakers. At face-to-face meetings, presentations will be limited to five minutes, with no more than a total of one hour for all speakers. To be placed on the public speaker list, interested parties should contact Mr. Thomas O. Miller, DFO, in writing (preferably via e-mail), by May 21, 2008, at the contact information noted above. Written Statements: Written statements should be received in the SAB Staff Office by May 21, 2008, so that the information may be made available to the SAB for their consideration prior to the teleconference meeting. Written statements should be supplied to the DFO via e-mail to miller.tom@epa.gov (acceptable file format: Adobe Acrobat PDF, WordPerfect, MS Word, MS PowerPoint, or Rich Text files in IBM-PC/Windows 98/2000/XP format).

Accessibility: For information on access or services for individuals with disabilities, please contact Mr. Thomas O. Miller at (202) 343-9982 or miller.tom@epa.gov. To request accommodation of a disability, please contact Mr. Miller preferably at least ten days prior to the meeting, to give EPA as much time as possible to process your request.

Dated: April 30, 2008.
Anthony F. Maciorowski,
Deputy Director, EPA Science Advisory Board Staff Office.

[FR Doc. E8-10138 Filed 5-6-08; 8:45 am]

BILLING CODE 6560-50-P